OVERSEAS PRIVATE INVESTMENT CORPORATION

Sunshine Act Meeting

December 12, 2000 Board of Directors Meeting

Time and Date: Tuesday, December 12, 2000, 1:00 pm (Open Portion), 1:30 pm (Closed Portion).

Place: Offices of the Corporation, Twelfth Floor Board Room, 1100 New York Avenue, NW., Washington, DC.

Status: Meeting Open to the Public from 1:00 pm to 1:30 pm Closed portion will commence at 1:30 pm (approx.)

Matters To Be Considered:

1. President's Report

2. Amendment of the OPIC Bylaws

3. Approval of September 19, 2000 Minutes (Open Portion)

Further Matters To Be Considered: Closed to the Public 1:30 pm)

1. Finance Project in OPIC Eligible Countries

2. Finance Project in Brazil

3. Finance Project in Argentina

4. Approval of September 19, 2000 Minutes (Closed Portion)

5. Pending Major Projects

6. Reports

Contact Person for Information: Information on the meeting may be obtained from Connie M. Downs at (202) 336-8438.

Dated: November 28, 2000.
Connie M. Downs,
OPIC Corporate Secretary.

[FR Doc. 00-30649 Filed 11-28-00; ­12:30 pm]

BILLING CODE 3210-01-M